NUCLEAR REGULATORY COMMISSION

[Docket No. 40-8027]

Notice of Availability of Environmental Assessment and Finding of No Significant Impact for License Amendment for Sequoyah Fuels Corporation, Gore, OK

AGENCY: Nuclear Regulatory Commission.

ACTION: Notice of availability.

FOR FURTHER INFORMATION CONTACT: Myron Fliegel, Project manager, Fuel Cycle Facilities Branch, Division of Fuel Cycle Safety and Safeguards, Office of Nuclear Material Safety and Safeguards, U.S. Nuclear Regulatory Commission, Washington, DC, 20555. Telephone: (301) 415-6629; fax number: (301) 415-5955; e-mail: mhf1@nrc.gov.

SUPPLEMENTARY INFORMATION:

I. Introduction

The Nuclear Regulatory Commission (NRC) is issuing a license amendment to Material License No. SUB-1010 issued to Sequoyah Fuels Corporation (the licensee), to authorize the licensee to dewater existing raffinate sludge and temporarily store the dewatered sludge at its Gore, Oklahoma facility prior to final disposition. NRC has prepared an Environmental Assessment (EA) in support of this amendment in accordance with the requirements of 10 CFR Part 51. Based on the EA, the NRC has concluded that a Finding of No Significant Impact (FONSI) is appropriate. The amendment will be issued following the publication of this Notice.

II. EA Summary

The purpose of the proposed amendment is to authorize the licensee to dewater existing raffinate sludge and temporarily store the dewatered sludge at its Gore, Oklahoma facility prior to final disposition. Approximately 1 million cubic feet of raffinate sludge was produced, as a waste, during the operation of the SFC facility. The sludge, which contains various metals in addition to uranium, thorium, and radium, is 15 to 20 percent solid material and is stored in three hypalon-lined impoundments on the site. It must be dewatered prior to permanent disposal, either in an onsite disposal cell or offsite at a licensed disposal facility. The licensee proposes to dewater the raffinate sludge using a pressurized plate press filtering process. The equipment would be set up in an area near the impoundments containing the sludge and dismantled at the conclusion of the dewatering process. The dewatered sludge would be put into 2200 pound capacity bags of woven polypropylene fabric and temporarily stored on a nearby concrete pad prior to final disposal. Temporary storage cells will be constructed on the concrete pad to contain the bags of raffinate sludge. The cells will be lined with 20 mil, high density cross-laminated polyethylene and covered with the same material.

On January 7, 2004, Sequoyah Fuels Corporation requested that NRC approve the proposed amendment. The licensee's request for the proposed change was previously noticed in the Federal Register on March 17, 2004 (69 FR 12715), with a notice of an opportunity to request a hearing.

The staff has prepared the EA in support of the proposed license amendment. The only environmental impact under normal conditions would be an increase in the radon concentration in the air at the site. However, the radon concentration at the site boundary would be well below the 10 CFR Part 20 standard. There is also a potential for release of some material during adverse meteorological conditions. In the unlikely event of a tornado strike on the cells, some of the sludge can be dispersed, but it is unlikely that it would be carried offsite. The licensee would be required to clean up the dispersed material. Some severe precipitation events could result in release of some sludge to the nearby Illinois River and Robert S. Kerr Reservoir but concentrations are unlikely to exceed the standards for normal releases in 10 CFR Part 20. The staff has concluded that the proposed action, to dewater existing raffinate sludge and temporarily store it in lined and covered cells, will result in minimal environmental impacts. Radon levels will be increased but will remain well within regulatory limits. In addition, there is the potential, under unusual conditions (e.g., during a severe storm), of releasing small amounts of contaminants in low concentrations, to the Robert S. Kerr Reservoir.

III. Finding of No Significant Impact

On the basis of the EA, NRC has concluded that there are no significant environmental impacts from the proposed amendment and has determined not to prepare an environmental impact statement.

IV. Further Information

Documents related to this action, including the application for amendment and supporting documentation, are available electronically at the NRC's Electronic Reading Room at http://www.nrc.gov/reading-rm/adams.html. From this site, you can access the NRC's Agencywide Document Access and Management System (ADAMS), which provides text and image files of NRC's public documents. The ADAMS accession numbers for the documents related to this notice are: SFC's amendment request, January 7, 2004, ML040150463 and NRC's Environmental Assessment, January 12, 2005, ML050120184. If you do not have access to ADAMS or if there are problems in accessing the documents located in ADAMS, contact the NRC's Public Document Room (PDR) Reference staff at 1-800-397-4209, 301-415-4737, or by e-mail to pdr@nrc.gov.

These documents may also be viewed electronically on the public computers located at the NRC's PDR, O 1 F21, One White Flint North, 11555 Rockville Pike, Rockville, MD 20852. The PDR reproduction contractor will copy documents for a fee.

Dated at Rockville, Maryland, this 14 day of January, 2005.
For the Nuclear Regulatory Commission.
Myron Fliegel,
Project Manager, Fuel Cycle Facilities Branch, Division of Fuel Cycle Safety and Safeguards, Office of Nuclear Material Safety and Safeguards.

[FR Doc. 05-1281 Filed 1-24-05; 8:45 am]

BILLING CODE 7590-01-P